ENVIRONMENTAL PROTECTION AGENCY

[OAR-2003-0070, FRL-7509-3]

Agency Information Collection Activities: Proposed Collection; Comment Request; The SunWise School Program

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): The SunWise School Program, Global Programs Division, EPA ICR No. 1904.01, expiration date: 11/30/03. Before submitting the ICR to OMB for review and approval, EPA is soliciting comments on specific aspects of the continuing information collection as described below.

DATES: Comments must be submitted on or before August 5, 2003.

ADDRESSES: Follow the detailed instructions in SUPPLEMENTARY INFORMATION.

FOR FURTHER INFORMATION CONTACT: Kristin Kenausis, Office of Atmospheric Programs, Global Programs Division, U.S. Environmental Protection Agency, 1200 Pennsylvania Ave., NW., (6205J), Washington, DC 20460, (202) 564-2289, kenausis.kristin@epa.gov.

SUPPLEMENTARY INFORMATION: EPA has established a public docket for this ICR under Docket ID number OAR-2003-0070, which is available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for Air and Radiation Docket is (202) 1744. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice, and according to the following detailed instructions: Submit your comments to EPA online using EDOCKET (our preferred method), by email to a-and-r-Docket@epa.gov, or by mail to: EPA Docket Center, Environmental Protection Agency, Air and Radiation Docket, Mailcode 6102T, 1200 Pennsylvania Ave., NW., Washington, DC 20460.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are elementary and middle school students, parents, and teachers (SIC Div. I: Group 8211).

Title: SunWise School Program; (OMB Control Number 2060-0439; EPA ICR No. 1904.01, expiring on 11/30/03).

Abstract: The goal of the SunWise School Program is to teach children and their care givers how to protect themselves from overexposure to the sun. The SunWise School Program recognizes the challenge of measuring the progress and evaluating the effectiveness of an environmental and public health education program where the ultimate goal is to reduce risk and improve public health. Therefore, the continual and careful evaluation of program effectiveness through a variety of means, including data from pre- and post-intervention surveys, tracking and monitoring of classroom activities and school policies, and advisory board meetings, is necessary to monitor progress and refine the program. Surveys to be developed and administered include: (1) Student survey to identify current sun safety knowledge and behaviors among students; (2) Parent survey to compare findings with those of their children as well as to draw comparisons with the benchmarks established in other national surveys; and (3) Teacher questionnaire for measuring their receptivity to the educational component of the Program. The data will be analyzed and results will indicate the Program's effect on participants' sun-protection attitudes and behaviors. Responses to the collection of information are voluntary. All responses to the collection of information remain anonymous and confidential. An agency may not conduct or sponsor, and a person is not required to respond to, a collection of information unless it displays a currently valid OMB control number. The OMB control numbers for EPA's regulations are listed in 40 CFR part 9 and 48 CFR chapter 15.

Burden Statement: The annual public reporting and record keeping burden for this collection of information is estimated to average .5 hours per response.

Number to be surveyed annually | Total hours burden | Rate per hour ($) | Total cost (D=B*C)
(A) | (B) | (C) | (D)
3,000 Students | 3,000 | 0 | 0
1,000 Teachers | 500 | $36.88 | $18,440.00
1,000 Parents | 250 | 20.29 | 5,072.50
Total (annual) | 3,750 |  | 23,512.50
ICR Total (3 years) | 11,250 |  | 70,537.50

The contractor (Boston University Medical Center) will assist EPA in data collection and analysis. EPA has contracted for a total of 400 professional hours. At an average rate of $100 per hour, the total cost for the contractor is $40,000 annually. Agency burden to manage this contract is estimated at 4 hours/month or 48 hours annually. The cost of this labor will be calculated based on a GS-12, Step 5 pay level ($44.75/hour using the salary associated with this grade and step, multiplied by a benefits factor of 1.6 ¹⁶). Total hours (48) multiplied by $44.75 per hour amounts to a total agency labor cost of $2,196/per annum.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: May 28, 2003.
Drusilla Hufford,
Director, Global Programs Division.

[FR Doc. 03-14323 Filed 6-5-03; 8:45 am]

BILLING CODE 6560-50-P